DEPARTMENT OF JUSTICE

Office of Justice Programs

Agency Information Collection Activities; Proposed Collection; Comments Requested

ACTION: 30-Day Notice of Information Collection Under Review: Reinstatement, without Change of a previously approved collection for which Approvals has expired. Budget Detail Worksheet.

The Department of Justice (DOJ), Office of Justice Programs (OJP) has submitted the following information collection request to the Office of Management and Budget (OMB) for review and approval in accordance with the Paperwork Reduction Act of 1995. The proposed collection information is published to obtain comments from the public and affected agencies. This proposed information collection was previously published in the Federal Register Volume 71, Number 24, page 6096 on February 6, 2006, allowing for a 60 day comment period.

The purpose of this notice is to allow for an additional 30 days for public comment until May 31, 2006. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Reinstatement, without Change of a previously approved collection for which approval has expired.

(2) Title of the Form/Collection: Budget Detail Worksheet

(3) Agency form number, if any, and the applicable component of the Department of Justice sponsoring the collection: Forms: Not-applicable

(4) Affected public who will be asked or required to respond, as well as a brief abstract: Primary: All potential grantee partners who are possible recipient of our discretionary grant programs. The eligible recipients include state and local government, Indian tribes, profit entities, non-profit entities, educational institutions, and individuals. The form is not mandatory and is recommended as guide to assist the recipient in preparing the budget narrative as authorized in 28 CFR parts 66 and 70.

(5) An estimate of the total number of respondents and the amount of time estimated for an average respondent to respond/reply: It is estimated that 2,500 respondents will complete a 4-hour form.

(6) An estimate of the total public burden (in hours) associated with the collection: The estimated total public burden hours associated with this collection is 4,609 hours.

If additional information is required contact: Robert B. Briggs, Department Clearance Officer, United States Department of Justice, Justice Management Division, Policy and Planning Staff, Patrick Henry Building, Suite 1600, 601 D Street, NW., Washington, DC 20530.

Dated: April 24, 2006
Robert B. Briggs,
Department Clearance Officer, Department of Justice.

[FR Doc. 06-4060 Filed 4-28-06; 8:45am]

BILLING CODE 4410-18-M